DEPARTMENT OF HOMELAND SECURITY

Federal Emergency Management Agency

44 CFR Part 64

[Docket ID FEMA-2008-0020; Internal Agency Docket No. FEMA-8091]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region II
New York:
Atlantic Beach, Village of, Nassau County | 360458 | NA, Emerg.; March 9, 2004, Reg.; September 11, 2009, Susp | Sept. 11, 2009 | Sept. 11, 2009.
Freeport, Village of, Nassau County | 360464 | November 26, 1971, Emerg.; February 14, 1976, Reg.; September 11, 2009, Susp | ......*do | do.
Lawrence, Village of, Nassau County | 360476 | June 27, 1975, Emerg.; May 16, 1983, Reg.; September 11, 2009, Susp | ......do | do.
Massapequa Park, Village of, Nassau County | 360480 | June 6, 1975, Emerg.; January 19, 1983, Reg.; September 11, 2009, Susp | ......do | do.
Saddle Rock, Village of, Nassau County | 360491 | July 17, 1975, Emerg.; October 18, 1983, Reg.; September 11, 2009, Susp | ......do | do.
Sea Cliff, Village of, Nassau County | 360493 | September 17, 1973, Emerg.; February 1, 1978, Reg.; September 11, 2009, Susp | ......do | do.
Valley Stream, Village of, Nassau County | 360495 | July 22, 1975, Emerg.; January 5, 1984, Reg.; September 11, 2009, Susp | ......do | do.
Region III
Virginia:
Boydton, Town of, Mecklenburg County | 510269 | October 18, 1978, Emerg.; December 3, 1982, Reg.; September 11, 2009, Susp | ......do | do.
Chase City, Town of, Mecklenburg County | 510297 | June 10, 1975, Emerg.; June 18, 1982, Reg.; September 11, 2009, Susp | ......do | do.
Clarksville, Town of, Mecklenburg County | 510209 | April 15, 1974, Emerg.; August 6, 1982, Reg.; September 11, 2009, Susp | ......do | do.
Mecklenburg County, Unincorporated Areas | 510189 | November 7, 1973, Emerg.; August 15, 1978, Reg.; September 11, 2009, Susp | ......do | do.
Region IV
Alabama:
Anderson, Town of, Lauderdale County | 010407 | NA, Emerg.; September 7, 2000, Reg.; September 11, 2009, Susp | ......do | do.
Bullock County, Unincorporated Areas | 010231 | February 19, 1976, Emerg.; June 1, 1987, Reg.; September 11, 2009, Susp | ......do | do.
Butler County, Unincorporated Areas | 010017 | February 27, 2006, Emerg.; NA, Reg.; September 11, 2009, Susp | ......do | do.
Courtland, Town of, Lawrence County | 010141 | March 11, 1974, Emerg.; April 17, 1978, Reg.; September 11, 2009, Susp | ......do | do.
Florence, City of, Lauderdale County | 010140 | May 24, 1973, Emerg.; May 2, 1977, Reg.; September 11, 2009, Susp | ......do | do.
Georgiana, City of, Butler County | 010018 | December 5, 1974, Emerg.; July 15, 1977, Reg.; September 11, 2009, Susp | ......do | do.
Greenville, City of, Butler County | 010329 | March 13, 1975, Emerg.; May 1, 1980, Reg.; September 11, 2009, Susp | ......do | do.
Hillsboro, Town of, Lawrence County | 010305 | December 21, 1978, Emerg.; April 2, 1986, Reg.; September 11, 2009, Susp | ......do | do.
Lauderdale County, Unincorporated Areas | 010323 | June 14, 1979, Emerg.; February 4, 1981, Reg.; September 11, 2009, Susp | ......do | do.
Lawrence County, Unincorporated Areas | 010324 | NA, Emerg.; March 14, 1991, Reg.; September 11, 2009, Susp | ......do | do.
Moulton, City of, Lawrence County | 010142 | April 1, 1974, Emerg.; October 16, 1979, Reg.; September 11, 2009, Susp | ......do | do.
North Courtland, Town of, Lawrence County | 010444 | January 15, 2003, Emerg.; January 28, 2003, Reg.; September 11, 2009, Susp | ......do | do.
Rogersville, Town of, Lauderdale County | 010339 | October 30, 2006, Emerg.; NA, Reg.; September 11, 2009, Susp | ......do | do.
Union Springs, City of, Bullock County | 010016 | November 8, 1974, Emerg.; August 15, 1983, Reg.; September 11, 2009, Susp | ......do | do.
Florida:
Aventura, City of, Miami-Dade County | 120676 | NA, Emerg.; October 22, 1997, Reg.; September 11, 2009, Susp | ......do | do.
Bal Harbour, Town of, Miami-Dade County | 120636 | August 4, 1970, Emerg.; September 29, 1972, Reg.; September 11, 2009, Susp | ......do | do.
Bay Harbor Islands, Town of, Miami-Dade County | 120637 | August 4, 1970, Emerg.; September 29, 1972, Reg.; September 11, 2009, Susp | ......do | do.
Biscayne Park, Village of, Miami-Dade County | 120638 | August 14, 1970, Emerg.; September 29, 1972, Reg.; September 11, 2009, Susp | ......do | do.
Coral Gables, City of, Miami-Dade County | 120639 | August 14, 1970, Emerg.; September 29, 1972, Reg.; September 11, 2009, Susp | ......do | do.
Cutler Bay, Town of, Miami-Dade County | 120218 | NA, Emerg.; August 31, 2006, Reg.; September 11, 2009, Susp | ......do | do.
do.al, City of, Miami-Dade County | 120041 | NA, Emerg.; May 12, 2004, Reg.; September 11, 2009, Susp | ......do | do.
El Portal, Village of, Miami-Dade County | 120640 | August 14, 1970, Emerg.; September 29, 1972, Reg.; September 11, 2009, Susp | ......do | do.
Florida City, City of, Miami-Dade County | 120641 | August 14, 1970, Emerg.; September 29, 1972, Reg.; September 11, 2009, Susp | ......do | do.
Golden Beach, Town of, Miami-Dade County | 120642 | August 14, 1970, Emerg.; September 29, 1972, Reg.; September 11, 2009, Susp | ......do | do.
Hialeah, City of, Miami-Dade County | 120643 | August 14, 1970, Emerg.; September 29, 1972, Reg.; September 11, 2009, Susp | ......do | do.
Hialeah Gardens, City of, Miami-Dade County | 120644 | August 14, 1970, Emerg.; September 29, 1972, Reg.; September 11, 2009, Susp | ......do | do.
Homestead, City of, Miami-Dade County | 120645 | August 14, 1970, Emerg.; September 29, 1972, Reg.; September 11, 2009, Susp | ......do | do.
Indian Creek, Village of, Miami-Dade County | 120646 | August 14, 1970, Emerg.; September 29, 1972, Reg.; September 11, 2009, Susp | ......do | do.
Islandia, City of, Miami-Dade County | 120647 | August 14, 1970, Emerg.; September 29, 1972, Reg.; September 11, 2009, Susp | ......do | do.
Key Biscayne, Village of, Miami-Dade County | 120648 | August 14, 1970, Emerg.; September 29, 1972, Reg.; September 11, 2009, Susp | ......do | do.
Medley, Town of, Miami-Dade County | 120649 | August 14, 1970, Emerg.; September 29, 1972, Reg.; September 11, 2009, Susp | ......do | do.
Miami, City of, Miami-Dade County | 120650 | August 14, 1970, Emerg.; September 29, 1972, Reg.; September 11, 2009, Susp | ......do | do.
Miami Beach, City of, Miami-Dade County | 120651 | August 14, 1970, Emerg.; September 29, 1972, Reg.; September 11, 2009, Susp | ......do | do.
Miami Lakes, Town of, Miami-Dade County | 120686 | NA, Emerg.; July 17, 2003, Reg.; September 11, 2009, Susp | ......do | do.
Miami Shores Village, Village of, Miami-Dade County | 120652 | August 14, 1970, Emerg.; September 29, 1972, Reg.; September 11, 2009, Susp | ......do | do.
Miami Springs, City of, Miami-Dade County | 120653 | August 14, 1970, Emerg.; September 29, 1972, Reg.; September 11, 2009, Susp | ......do | do.
Miami-Dade County, Unincorporated Areas | 120635 | August 14, 1970, Emerg.; September 29, 1972, Reg.; September 11, 2009, Susp | ......do | do.
North Bay Village, City of, Miami-Dade County | 120654 | August 14, 1970, Emerg.; September 29, 1972, Reg.; September 11, 2009, Susp | ......do | do.
North Miami, City of, Miami-Dade County | 120655 | August 14, 1970, Emerg.; September 29, 1972, Reg.; September 11, 2009, Susp | ......do | do.
North Miami Beach, City of, Miami-Dade County | 120656 | August 14, 1970, Emerg.; September 29, 1972, Reg.; September 11, 2009, Susp | ......do | do.
Opa-Locka, City of, Miami-Dade County | 120657 | August 14, 1970, Emerg.; September 29, 1972, Reg.; September 11, 2009, Susp | ......do | do.
Palmetto Bay, Village of, Miami-Dade County | 120687 | NA, Emerg.; February 2, 2005, Reg.; September 11, 2009, Susp | ......do | do.
Pinecrest, Village of, Miami-Dade County | 120425 | NA, Emerg.; October 13, 1998, Reg.; September 11, 2009, Susp | ......do | do.
South Miami, City of, Miami-Dade County | 120658 | August 14, 1970, Emerg.; September 29, 1972, Reg.; September 11, 2009, Susp | ......do | do.
Sunny Isles Beach, City of, Miami-Dade County | 120688 | NA, Emerg.; September 10, 2003, Reg.; September 11, 2009, Susp | ......do | do.
Surfside, Town of, Miami-Dade County | 120659 | August 14, 1970, Emerg.; September 29, 1972, Reg.; September 11, 2009, Susp | ......do | do.
Sweetwater, City of, Miami-Dade County | 120660 | August 14, 1970, Emerg.; September 29, 1972, Reg.; September 11, 2009, Susp | ......do | do.
Virginia Gardens, Village of, Miami-Dade County | 120661 | August 14, 1970, Emerg.; September 29, 1972, Reg.; September 11, 2009, Susp | ......do | do.
Georgia:
Adel, City of, Cook County | 130060 | December 17, 1973, Emerg.; September 1, 1977, Reg.; September 11, 2009, Susp | ......do | do.
Americus, City of, Sumter County | 130203 | March 28, 1975, Emerg.; December 16, 1988, Reg.; September 11, 2009, Susp | ......do | do.
Argyle, Town of, Clinch County | 130049 | November 3, 1975, Emerg.; July 3, 1986, Reg.; September 11, 2009, Susp | ......do | do.
Cecil, City of, Cook County | 130568 | December 5, 2000, Emerg.; December 6, 2001, Reg.; September 11, 2009, Susp | ......do | do.
Clinch County, Unincorporated Areas | 130048 | October 10, 1975, Emerg.; August 1, 1986, Reg.; September 11, 2009, Susp | ......do | do.
Coffee County, Unincorporated Areas | 130465 | August 11, 1987, Emerg.; August 2, 1990, Reg.; September 11, 2009, Susp | ......do | do.
Cook County, Unincorporated Areas | 130501 | November 20, 1991, Emerg.; April 3, 1996, Reg.; September 11, 2009, Susp | ......do | do.
do.ly County, Unincorporated Areas | 130532 | September 22, 1995, Emerg.; June 4, 1996, Reg.; September 11, 2009, Susp | ......do | do.
do.glas, City of, Coffee County | 130216 | March 5, 1974, Emerg.; July 16, 1979, Reg.; September 11, 2009, Susp | ......do | do.
Dupont, City of, Clinch County | 130050 | October 1, 1975, Emerg.; June 3, 1986, Reg.; September 11, 2009, Susp | ......do | do.
Homerville, City of, Clinch County | 130051 | July 24, 1975, Emerg.; July 9, 1982, Reg.; September 11, 2009, Susp | ......do | do.
Lenox, Town of, Cook County | 130569 | January 12, 2001, Emerg.; December 6, 2001, Reg.; September 11, 2009, Susp | ......do | do.
Leslie, City of, Sumter County | 130395 | August 6, 1975, Emerg.; September 29, 1986, Reg.; September 11, 2009, Susp | ......do | do.
Molena, City of, Pike County | 130376 | July 25, 1996, Emerg.; September 1, 2004, Reg.; September 11, 2009, Susp | ......do | do.
Pike County, Unincorporated Areas | 130511 | October 11, 1994, Emerg.; March 18, 1996, Reg.; September 11, 2009, Susp | ......do | do.
Pinehurst, City of, do.ly County | 130071 | July 30, 1975, Emerg.; June 25, 1976, Reg.; September 11, 2009, Susp | ......do | do.
Ringgold, City of, Catoosa County | 130029 | February 5, 1974, Emerg.; June 15, 1978, Reg.; September 11, 2009, Susp | ......do | do.
Sparks, Town of, Cook County | 130061 | December 26, 1973, Emerg.; November 16, 1977, Reg.; September 11, 2009, Susp | ......do | do.
Sumter County, Unincorporated Areas | 130521 | April 26, 1995, Emerg.; May 6, 1996, Reg.; September 11, 2009, Susp | ......do | do.
Unadilla, City of, Dooly County | 130072 | July 16, 1975, Emerg.; July 23, 1982, Reg.; September 11, 2009, Susp | ......do | do.
Zebulon, City of, Pike County | 130529 | August 5, 1998, Emerg.; NA, Reg.; September 11, 2009, Susp | ......do | do.
South Carolina:
Oconee County, Unincorporated Areas | 450157 | May 16, 1975, Emerg.; September 1, 1987, Reg.; September 11, 2009, Susp | ......do | do.
Seneca, City of, Oconee County | 450158 | July 24, 1975, Emerg.; December 16, 1977, Reg.; September 11, 2009, Susp | ......do | do.
Walhalla, Town of, Oconee County | 450159 | May 20, 1975, Emerg.; June 17, 1986, Reg.; September 11, 2009, Susp | ......do | do.
*-do- =Ditto.
Code for reading third column: Emerg.—Emergency; Reg.—Regular; Susp.—Suspension.

Dated: September 4, 2009.
Edward L. Conner,
Acting Assistant Administrator, Mitigation Directorate, Department of Homeland Security, Federal Emergency Management Agency.

[FR Doc. E9-21910 Filed 9-10-09; 8:45 am]

BILLING CODE 9110-12-P